DEPARTMENT OF THE INTERIOR

National Park Service

[NPS-WASO-NAGPRA-NPS0031783; PPWOCRADN0-PCU00RP14.R50000]

Notice of Inventory Completion: San Bernardino County Museum, Redlands, CA

AGENCY: National Park Service, Interior.

ACTION: Notice.

SUMMARY: The San Bernardino County Museum (SBCM) has completed an inventory of human remains and associated funerary objects, in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the San Bernardino County Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Bernardino County Museum at the address in this notice by May 27, 2021.

ADDRESSES: Tamara Serrao-Leiva, San Bernardino County Museum, 2024 Orange Tree Lane, Redlands, CA 92374, telephone (909) 798-8623, email tserrao-leiva@sbcm.sbcounty.gov.

SUPPLEMENTARY INFORMATION: Notice is here given in accordance with the Native American Graves Protection and Repatriation Act (NAGPRA), 25 U.S.C. 3003, of the completion of an inventory of human remains and associated funerary objects under the control of the San Bernardino County Museum, Redlands, CA. The human remains and associated funerary objects were removed from Riverside and San Bernardino Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Bernardino County Museum professional staff in consultation with representatives of the Agua Caliente Band of Cahuilla Indians of the Agua Caliente Indian Reservation, California; Cabazon Band of Mission Indians, California; Cahuilla Band of Indians (previously listed as Cahuilla Band of Mission Indians of the Cahuilla Reservation, California); Morongo Band of Mission Indians, California (previously listed as Morongo Band of Cahuilla Mission Indians of the Morongo Reservation); San Manuel Band of Mission Indians, California (previously listed as San Manual Band of Serrano Mission Indians of the San Manual Reservation); Santa Rosa Band of Cahuilla Indians, California (previously listed as Santa Rosa Band of Cahuilla Mission Indians of the Santa Rosa Reservation); Twenty-Nine Palms Band of Mission Indians of California; and the Mission Creek Band of Mission Indians, a non-federally recognized Indian group. The Augustine Band of Cahuilla Indians, California (previously listed as Augustine Band of Cahuilla Mission Indians of the Augustine Reservation); Los Coyotes Band of Cahuilla and Cupeno Indians, California (previously listed as Los Coyotes Band of Cahuilla & Cupeno Indians of the Los Coyotes Reservation); Ramona Band of Cahuilla, California (previously listed as Ramona Band or Village of Cahuilla Mission Indians of California); and the Torres Martinez Desert Cahuilla Indians, California (previously listed as Torres-Martinez Band of Cahuilla Mission Indians of California) were invited to consult, but did not participate. Hereafter, all the Indian Tribes and groups listed above are referred to as “The Consulted and Invited Tribes and Groups.”

History and Description of the Remains

In 1951, human remains representing, at minimum, one individual were removed from Indian Wells (SBCM-20; CA-RIV-64) in Riverside County, CA, during a survey by the Archaeological Survey Association of Southern California. The age and sex of this individual are unknown. No known individual was identified. The one associated funerary object is one lot of charcoal.

In 1898, evidence for the existence of cremations, a workshop, and kilns was found at CA-RIV-64, and in 1933-35, G. Smith attested to the presence of cremations when he recorded the site. As no units or stratigraphical data were recorded in 1951, there is little information to establish a time-period for these human remains. Artifacts recovered from the site, though, point to a primarily protohistoric presence, with some earlier and later occupations. Ethnohistoric evidence indicates that the area around Indian Wells was occupied by the Cahuilla Tribe during the prehistoric and protohistoric period, and this area has traditionally been identified as Cahuilla ancestral territory. When Cahuilla peopled the Coachella Valley, Indian Wells was the seat from which their leader, Sungrey, exercised authority. Today, the Agua Caliente Band of Cahuilla Indians of the Agua Caliente Indian Reservation, California has a conservation easement on an area of CA-RIV-64 (a burial dune).

In 1982, human remains representing, at minimum, one individual were removed from Seven Palms Ranch (SBCM-173; CA-RIV-1825, CA-RIV-1827) in Riverside County, CA, by Albert A. Webb Associates. The firm's 1982 site report states, “SP 6 is potentially the largest site on the property. SP 6 incorporates an area 50 meters wide by 250 meters long . . . exposing ceramics, FAR, debitage, bone, and large metate fragments . . . . Of significance, a suspicious bone fragment collected from the site for identification proved to be human, right mastoid process, resulting presumably, from a human cremation. The disposition of this specimen will be arranged with Anthony Andreas, the Native American consultant of the project from the Agua Caliente Cahuilla Band.” The human remains—a mastoid process—belong to an individual of unknown age and sex. No known individual was identified. No associated funerary objects are present.

According to the Webb Associates report, settlement at Seven Palms Ranch dates from 1150 to 1876 A.D. Seven Palms oasis was abandoned in the 1870s, when the population moved several miles southwest to Palm Springs Station. This group was identified as the Havinakiktum (“deep water hole”) clan of the Coyote Moiety (Strong 1929:91), whose religious affiliation was with the Morongo groups. The people of Seven Palms are known as the Hav ve.

Ethnohistoric evidence indicates that the area around Seven Palms Ranch was occupied by the Cahuilla tribe throughout prehistory, and the archeological record indicates Cahuilla presence in the protohistoric period. In recent times, the Agua Caliente Band of Cahuilla Indians filed a resolution on the village site with the Riverside County Assessor's office.

Determinations Made by the San Bernardino County Museum

Personnel of the San Bernardino County Museum have determined that:

• Pursuant to 25 U.S.C. 3001(9), the human remains described in this notice represent the physical remains of two individuals of Native American ancestry.

• Pursuant to 25 U.S.C. 3001(3)(A), the one object described in this notice are reasonably believed to have been placed with or near individual human remains at the time of death or later as part of the death rite or ceremony.

• Pursuant to 25 U.S.C. 3001(2), there is a relationship of shared group identity that can be reasonably traced between the Native American human remains and associated funerary objects and the Agua Caliente Band of Cahuilla Indians of the Agua Caliente Indian Reservation, California; Augustine Band of Cahuilla Indians, California [previously listed as Augustine Band of Cahuilla Mission Indians of the Augustine Reservation]; Cabazon Band of Mission Indians, California; Cahuilla Band of Indians [previously listed as Cahuilla Band of Mission Indians of the Cahuilla Reservation, California]; Los Coyotes Band of Cahuilla and Cupeno Indians, California [previously listed as Los Coyotes Band of Cahuilla & Cupeno Indians of the Los Coyotes Reservation]; Morongo Band of Mission Indians, California [previously listed as Morongo Band of Cahuilla Mission Indians of the Morongo Reservation]; Ramona Band of Cahuilla, California [previously listed as Ramona Band or Village of Cahuilla Mission Indians of California]; Santa Rosa Band of Cahuilla Indians, California [previously listed as Santa Rosa Band of Cahuilla Mission Indians of the Santa Rosa Reservation]; and the Torres Martinez Desert Cahuilla Indians, California [previously listed as Torres-Martinez Band of Cahuilla Mission Indians of California] (hereafter referred to as “The Affiliated Tribes”).

Additional Requestors and Disposition

Lineal descendants or representatives of any Indian Tribe or Native Hawaiian organization not identified in this notice that wish to request transfer of control of these human remains and associated funerary objects should submit a written request with information in support of the request to Tamara Serrao-Leiva, San Bernardino County Museum, 2024 Orange Tree Lane, Redlands, CA 92373, telephone (909) 798-8623, email tserrao-leiva@sbcm.sbcounty.gov, by May 27, 2021. After that date, if no additional requestors have come forward, transfer of control of the human remains and associated funerary objects to The Affiliated Tribes may proceed.

The San Bernardino County Museum is responsible for notifying The Affiliated Tribes and The Consulted and Invited Tribes and Groups that this notice has been published.

Dated: April 19, 2021.
Melanie O'Brien,
Manager, National NAGPRA Program.

[FR Doc. 2021-08773 Filed 4-26-21; 8:45 am]

BILLING CODE 4312-52-P